DEPARTMENT OF TRANSPORTATION

Coast Guard

33 CFR Part 165

[CGD01-00-190]

RIN 2115-AA97

Safety and Security Zones: Presidential Visit, Martha's Vineyard, MA

AGENCY: Coast Guard, DOT.

ACTION: Temporary final rule.

SUMMARY: The Coast Guard is establishing temporary safety and security zones, with identical boundaries, around the President of the United States during his vacation on Martha's Vineyard, Massachusetts. The security zone is needed to safeguard the public, the President and adjoining areas from sabotage or other subversive acts, accidents, or other causes of a similar nature. The safety zone is needed to protect the public. Entry into these zones is prohibited unless authorized by the Captain of the Port, Providence, Rhode Island or the Coast Guard Presidential Security Detail Senior Duty Officer.

DATES: This rule is effective from 6 a.m., Tuesday, August 1, 2000, until 12 midnight on Tuesday, August 8, 2000.

ADDRESSES: Documents as indicated in this preamble are available for inspection and copying at Marine Safety Office Providence, 20 Risho Avenue, East Providence, Rhode Island between the hours of 8 a.m. and 3 p.m., Monday through Friday, except Federal holidays.

FOR FURTHER INFORMATION CONTACT: LT David C. Barata at Marine Safety Office Providence, (401) 435-2335.

SUPLEMENTARY INFORMATION:

Regulatory Information

Pursuant to 5 U.S.C. 553, a notice of proposed rulemaking (NPRM) was not published for this regulation and good cause exists for making it effective less than 30 days after Federal Register publication. Due to the sensitive and unpredictable nature of the President's schedule, the Coast Guard received insufficient notice to publish proposed rules in advance of the event. Any delay encountered in this regulation's effective date would be contrary to public interest since immediate action is needed to protect the President, the public and adjoining areas.

Background and Purpose

From August 1, 2000, to August 8, 2000, President Clinton will be vacationing on Martha's Vineyard, MA. While vacationing, the President may participate in a variety of activities including boating or fishing trips, swimming, jogs along the beach, dinners at waterfront restaurants, and golfing, all of which will place him on or in close proximity to the navigable waters of the United States. This temporary rule establishes moving safety and security zones around the President extending 500 yards in all directions. The zones will be activated when the President is on or near the waters of the United States. The zones are needed for the safety and security of the President and to protect the public and adjacent areas from sabotage or other subversive acts, accidents, or other causes of a similar nature.

It is not possible to predict the President's exact movements on Martha's Vineyard. Accordingly, the Coast Guard Captain of the Port or the Coast Guard Presidential Security Detail Senior Duty Officer will activate the safety and security zones when necessary. Notice of the exact location of the safety and security zones will be given via loud hailer, channels 16 and 22 VHF, or through Safety Maine Information Broadcasts, as appropriate. The safety and security zones have identical boundaries. All persons, other than those approved by the Captain of the Port or the Coast Guard Presidential Security Detail Senior Duty Officer, will be prohibited from these zones. The activation and enforcement of these zones will be coordinated with the Secret Service pursuant to their authority under 18 U.S.C. 3056.

Regulatory Evaluation

This temporary final rule is not a significant regulatory action under section 3(f) of Executive Order 12866 and does not require an assessment of potential costs and benefits under section 6(a)(3) of that order. The Office of Management and Budget has not reviewed it under that order. It is not significant under the regulatory policies and procedures of the Department of Transportation (DOT) (44 FR 11040; February 26, 1979). The Coast Guard expects the economic impact of this rule to be so minimal that a full Regulatory Evaluation under paragraph 10(e) of the regulatory policies and procedures of DOT is unnecessary. The sizes of the zones are the minimum necessary to provide adequate protection of the President. The entities most likely to be affected are pleasure craft engaged in recreational activities and sightseeing. These individuals and vessels have ample space outside of the safety and security zones to engage in these activities and therefore they will not be subject to undue hardship. If the President is onboard a vessel, the zones may impact ferries or other commercial vessels. In order not to place undue hardships on these vessels and their passengers, provided there is adequate protection for the President and the public, vessels may be allowed to transit through the zones. Any hardships experienced by persons or vessels are considered minimal compared to the national interest in protecting the President and the public.

Small Entities

Under the Regulatory Flexibility Act (5 U.S.C. 601 et seq.), the Coast Guard must consider whether this proposal will have a significant economic impact on a substantial number of small entities. “Small entities” may include (1) small businesses and not-for-profit organizations that are independently owned and operated and are not dominant in their fields and (2) governmental jurisdictions with populations of less than 50,000. For the reasons addressed in the Regulatory Evaluation above, the Coast Guard certifies under section 605(b) of the Regulatory Flexibility Act (5 U.S.C. 601 et seq.) that this final rule will not have a significant economic impact on a substantial number of small entities.

Assistance for Small Entities

Under subsection 213(a) of the Small Business Regulatory Enforcement Fairness Act of 1996 [Pub. L. 104-121], the Coast Guard wants to assist small entities in understanding this final rule so that they can better evaluate its effects on them and participate in the rulemaking. If your small business or organization would be affected by this final rule and you have questions concerning its provisions or options for compliance, please call LT David Barata, telephone (401) 435-2335.

The Ombudsman of Regulatory Enforcement for Small Business and Agriculture and 10 Regional Fairness Boards were established to receive comments from small businesses about enforcement by Federal agencies. The Ombudsman will annually evaluate such enforcement and rate each agency's responsiveness to small business. If you wish to comment on enforcement by the Coast Guard, call 1-888-REG-FAIR (1-888-734-3247).

Collection of Information

This rule contains no collection of information requirements under the Paperwork Reduction Act (44 U.S.C. 3501 et seq.).

Federalism

The Coast Guard has analyzed this action in accordance with the principles and criteria contained in Executive Order 13132, and has determined that these regulations do not raise sufficient federalism implications to warrant the preparation of a Federalism Assessment.

Unfunded Mandates

Under the Unfunded Mandates Reform Act of 1995 (2 U.S.C. 1531-1538), governs the issuance of Federal regulations that require unfunded mandates. An unfunded mandate is a regulation that requires a State, local, or tribal government or the private sector to incur direct costs without the Federal Government's having first provided the funds to pay those unfunded mandate costs. This rule will not impose an unfunded mandate.

Taking of Private Property

This rule will not effect a taking of private property or otherwise have taking implications under Executive Order 12630, Governmental Actions and Interference with Constitutionally Protected Property Rights.

Civil Justice Reform

This rule meets applicable standards in sections 3(a) and 3(b)(2) of E.O. 12988, Civil Justice Reform, to minimize litigation, eliminate ambiguity, and reduce burden.

Protection of Children

We have analyzed this rule under Executive Order 13045, Protection of Children from Environmental Health Risks and Safety Risks. This rule is not an economically significant rule and does not concern an environmental risk to health or risk to safety that may disproportionately affect children.

Environment

The Coast Guard has considered the environmental impact of these regulations and concluded that under Figure 2-1, paragraph 34(g) of Commandant Instruction M16475.1C, this rule is categorically excluded from further environmental documentation. A written Categorical Exclusion Determination is available in the docket for inspection or copying where indicated under ADDRESSES.

List of Subjects in CFR Part 165

Harbors, Marine safety, Navigation (water), Reports and Recordkeeping requirements, Security measures, Waterways.

For the reasons set out in the preamble, the Coast Guard amends 33 CFR Part 165 as follows:

PART 165—[AMENDED]

1. The authority citation for Part 165 continues to read as follows:

Authority: 33 U.S.C. 1231; 50 U.S.C. 191; 33 CFR 1.05-1(g), 6.04-1, 6.04-6 and 160.5: 49 CFR 1.46.

2. Add temporary § 165.T00-190 to read as follows:

§ 165.T00-190 Safety and Security Zones: Presidential Visit; Martha's Vineyard, MA.

(a) Location. The following area is a moving safety zone and a security zone: A five hundred (500) yard radius around the President of the United States at all times designated by the Captain of the Port or the Coast Guard Presidential Security Detail Senior Duty Officer.

(b) Effective date. This rule is effective from 6 a.m. on Tuesday, August 1, 2000, until 12 midnight on Tuesday, August 8, 2000. The security and safety zones established by this regulation will be activated by the Captain of the Port or the Coast Guard Presidential Security Detail Senior Duty Officer as necessary to protect the President and the public. As appropriate, notice of the activation of these zones may be made via loud hailer, Channels 16 and 22 VHF, or through Safety Marine Information Broadcasts.

(c) Regulations. (1) In accordance with the general regulations in §§ 165.23 and 165.33 of this part, entry into or movement within these zones is prohibited unless authorized by the COTP Providence or the Coast Guard Presidential Security Detail Senior Duty Officer.

(2) All persons and vessels shall comply with the instructions of the COTP, the Coast Guard Presidential Security Detail Senior Duty Officer, or the designated on-scene U.S. Coast Guard patrol personnel. U.S. Coast Guard patrol personnel include commissioned, warrant, and petty officers of the U.S. Coast Guard.

(3) The general regulations covering safety and security zones in section §§ 165.23 and 165.33, respectively, of this part apply.

Dated: July 27, 2000.
Mark G. Vanhaverbeke,
Captain, U.S. Coast Guard, Captain of the Port.

[FR Doc. 00-20126 Filed 8-4-00; 3:08 pm]

BILLING CODE 4910-15-U